DEPARTMENT OF ENERGY

Federal Energy Regulatory Commission

Combined Notice of Filings #2

Take notice that the Commission received the following electric rate filings:

Docket Numbers: ER11-3876-010; ER14-2297-000; ER10-2611-008.

Applicants: Cordova Energy Company LLC, Saranac Power Partners, L.P., MidAmerican Energy Company.

Description: Supplement to June 30, 2014 Triennial Market Power Analysis Update in the Northeast Region of Cordova Energy Company LLC, MidAmerican Energy Company and Saranac Power Partners, L.P.

Filed Date: 10/28/14.

Accession Number: 20141028-5169.

Comments Due: 5 p.m. ET 11/18/14.

Docket Numbers: ER12-959-006.

Applicants: Southwest Power Pool, Inc.

Description: Compliance filing per 35: Tri County Compliance Filing—ER12-959 to be effective 10/16/2014.

Filed Date: 10/30/14.

Accession Number: 20141030-5136.

Comments Due: 5 p.m. ET 11/20/14.

Docket Numbers: ER15-227-002.

Applicants: Pacific Gas and Electric Company.

Description: Tariff Amendment per 35.17(b): Second Amendment to the CDWR Load and Generator Interconnection Agreement Filing to be effective 1/1/2015.

Filed Date: 10/29/14.

Accession Number: 20141029-5156.

Comments Due: 5 p.m. ET 11/19/14.

Docket Numbers: ER15-231-001.

Applicants: Pacific Gas and Electric Company.

Description: Tariff Amendment per 35.17(b): Amendment Filing for Pine Flat and Midway Contract between PG&E and CDWR to be effective 1/1/2015.

Filed Date: 10/29/14.

Accession Number: 20141029-5170.

Comments Due: 5 p.m. ET 11/19/14.

Docket Numbers: ER15-237-000.

Applicants: Public Service Company of Colorado.

Description: § 205(d) rate filing per 35.13(a)(2)(iii): 2014-10-30_Joint Dispatch Filing to be effective 1/1/2015.

Filed Date: 10/30/14.

Accession Number: 20141030-5076.

Comments Due: 5 p.m. ET 11/20/14.

Docket Numbers: ER15-238-000.

Applicants: New England Power Pool Participants Committee.

Description: § 205(d) rate filing per 35.13(a)(2)(iii): 126th Agreement to be effective 11/1/2014.

Filed Date: 10/30/14.

Accession Number: 20141030-5091.

Comments Due: 5 p.m. ET 11/20/14.

Docket Numbers: ER15-239-000.

Applicants: Interstate Gas Supply, Inc.

Description: § 205(d) rate filing per 35.13(a)(2)(iii): CIS & Tariff Revisions to be effective 12/29/2014.

Filed Date: 10/30/14.

Accession Number: 20141030-5107.

Comments Due: 5 p.m. ET 11/20/14.

Docket Numbers: ER15-240-000.

Applicants: Accent Energy Midwest II LLC.

Description: § 205(d) rate filing per 35.13(a)(2)(iii): CIS & Tariff Revisions to be effective 12/29/2014.

Filed Date: 10/30/14.

Accession Number: 20141030-5109.

Comments Due: 5 p.m. ET 11/20/14.

Docket Numbers: ER15-241-000.

Applicants: Border Energy Electric Services, Inc.

Description: § 205(d) rate filing per 35.13(a)(2)(iii): CIS & Tariff Revisions to be effective 12/29/2014.

Filed Date: 10/30/14.

Accession Number: 20141030-5111.

Comments Due: 5 p.m. ET 11/20/14.

Docket Numbers: ER15-242-000.

Applicants: Nevada Power Company.

Description: Initial rate filing per 35.12 Rate Schedule No. 145 Facilities Agreement to be effective 11/1/2014.

Filed Date: 10/30/14.

Accession Number: 20141030-5114.

Comments Due: 5 p.m. ET 11/20/14.

Docket Numbers: ER15-243-000.

Applicants: PJM Interconnection, L.L.C., The Dayton Power and Light Company.

Description: § 205(d) rate filing per 35.13(a)(2)(iii): DP&L submits revisions to Att H-15 Proposed Wholesale Distribution Service Rate to be effective 1/1/2015.

Filed Date: 10/30/14.

Accession Number: 20141030-5115.

Comments Due: 5 p.m. ET 11/20/14.

Docket Numbers: ER15-244-000.

Applicants: Midcontinent Independent System Operator, Inc.

Description: § 205(d) rate filing per 35.13(a)(2)(iii): 2014-10-30_SA 2704 WAPA-ITC Midwest Interconnection Agreement to be effective 10/31/2014.

Filed Date: 10/30/14.

Accession Number: 20141030-5117.

Comments Due: 5 p.m. ET 11/20/14.

Docket Numbers: ER15-245-000.

Applicants: Idaho Power Company.

Description: § 205(d) rate filing per 35.13(a)(2)(iii): BPA USBR NITSA Jan 2015 to be effective 1/1/2015.

Filed Date: 10/30/14.

Accession Number: 20141030-5125.

Comments Due: 5 p.m. ET 11/20/14.

Docket Numbers: ER15-246-000.

Applicants: PJM Interconnection, L.L.C.

Description: Tariff Withdrawal per 35.15: Notice of Cancellation of Service Agreement No. 3587; Queue No. Y3-049 to be effective 10/20/2014.

Filed Date: 10/30/14.

Accession Number: 20141030-5131.

Comments Due: 5 p.m. ET 11/20/14.

Docket Numbers: ER15-247-000.

Applicants: PJM Interconnection, L.L.C.

Description: Tariff Withdrawal per 35.15: Notice of Cancellation of Service Agreement No. 3666; Queue No. Y3-047 to be effective 10/20/2014.

Filed Date: 10/30/14.

Accession Number: 20141030-5134.

Comments Due: 5 p.m. ET 11/20/14.

Docket Numbers: ER15-248-000.

Applicants: Idaho Power Company.

Description: Notice of Cancellation of 6th Revised Service Agreement No. 156. of Idaho Power Company.

Filed Date: 10/30/14.

Accession Number: 20141030-5142.

Comments Due: 5 p.m. ET 11/20/14.

Docket Numbers: ER15-249-000.

Applicants: Wolverine Power Supply Cooperative, Inc.

Description: § 205(d) rate filing per 35.13(a)(2)(iii): Wolverine Rate Schedule No. 4 Filing to be effective 1/1/2015.

Filed Date: 10/30/14.

Accession Number: 20141030-5146.

Comments Due: 5 p.m. ET 11/20/14.

Docket Numbers: ER15-250-000.

Applicants: PJM Interconnection, L.L.C.

Description: Tariff Withdrawal per 35.15: Notice of Cancellation of Service Agreement No. 3275; Queue No. W3-078 to be effective 12/20/2014.

Filed Date: 10/30/14.

Accession Number: 20141030-5167.

Comments Due: 5 p.m. ET 11/20/14.

Docket Numbers: ER15-251-000.

Applicants: Tucson Electric Power Company.

Description: § 205(d) rate filing per 35.13(a)(2)(iii): Amd Rstd SJ-SPV-VL Participation Agreement to be effective 12/29/2014.

Filed Date: 10/30/14.

Accession Number: 20141030-5180.

Comments Due: 5 p.m. ET 11/20/14.

Take notice that the Commission received the following land acquisition reports:

Docket Numbers: LA14-3-000.

Applicants: Arizona Public Service Company.

Description: Quarterly Land Acquisition Report of Arizona Public Service Company.

Filed Date: 10/30/14.

Accession Number: 20141030-5121.

Comments Due: 5 p.m. ET 11/20/14.

Docket Numbers: LA14-3-000.

Applicants: Beech Ridge Energy LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Grays Harbor Energy LLC, Hardee Power Partners Limited, Invenergy Cannon Falls LLC, Invenergy TN LLC, Judith Gap Energy LLC, Prairie Breeze Wind Energy LLC, Sheldon Energy LLC, Spring Canyon Energy LLC, Spindle Hill Energy LLC, Stony Creek Energy LLC, Vantage Wind Energy LLC, Willow Creek Energy LLC, Wolverine Creek Energy LLC.

Description: Quarterly Land Acquisition Report of Beech Ridge Energy LLC, et. al. under LA14-3.

Filed Date: 10/30/14.

Accession Number: 20141030-5137.

Comments Due: 5 p.m. ET 11/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2014.
Nathaniel J. Davis, Sr.,
Deputy Secretary.

[FR Doc. 2014-26567 Filed 11-7-14; 8:45 am]

BILLING CODE 6717-01-P